ENVIRONMENTAL PROTECTION AGENCY

[OECA-2005-0078; FRL-8195-2]

Agency Information Collection Activities; Submission to OMB for Review and Approval; Comment Request; Federal Emission Guidelines for Large Municipal Waste Combustors Constructed on or Before September 20, 1994, EPA ICR Number 1847.04, OMB Control Number 2060-0390

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before August 10, 2006.

ADDRESSES: Submit your comments, referencing docket ID number EPA-OECA-2005-0079 to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Gregory Fried, Compliance Assessment and Media Programs Division, Office of Compliance, (Mail code: 2223A), Environmental Protection Agency, 1200 Pennsylvania Avenue, NW., Washington, DC 20460; telephone number: (202) 564-7016; fax number: (202) 564-0050; e-mail address: fried.gregory@epa.gov.

SUPPLEMENTARY INFORMATION: EPA has submitted the following ICR to OMB for review and approval according to the procedures prescribed in 5 CFR 1320.12. On September 21, 2005, (70 FR 55368), EPA sought comments on this ICR pursuant to 5 CFR 1320.8(d). EPA received no comments. Any additional comments on this ICR should be submitted to EPA and OMB within 30 days of this notice.

EPA has established a public docket for this ICR under docket ID number EPA-OECA-2005-0079, which is available for public viewing online at http://www.regulations.gov, in person viewing at the Enforcement and Compliance Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives and publishes them without change, unless the comment contains copyrighted material, CBI, or other information whose public disclosure is restricted by statute. For further information about the electronic docket, go to http://www.regulations.gov.

Title: Federal Emission Guidelines for Large Municipal Waste Combustors Constructed on or Before September 20, 1994.

ICR Numbers: EPA ICR Number 1847.04, OMB Control Number 2060-0390.

ICR Status: This ICR is scheduled to expire on August 30, 2006. Under OMB regulations, the Agency may continue to conduct or sponsor the collection of information while this submission is pending at OMB. An Agency may not conduct, or sponsor, and a person is not required to respond to, a request for collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The Emission Guidelines apply to all municipal waste combustion (MWC) units with a combustion capacity greater than 250 tons per day of municipal solid waste (large MWC units), if construction of the unit commenced on, or before September 20, 1994, and the unit is not covered by an Environmental Protection Agency (EPA)-approved and currently effective state or tribal plan.

The Emission Guidelines require initial notifications, performance tests, and periodic reports. Owners, or operators also are required to maintain records of the occurrence and duration of any startup, shutdown, or malfunction in the operation of an affected facility, or any period during which the monitoring system is inoperative. Owners, or operators subject to these regulations are required maintain records of measurements and reports for at least five years.

Burden Statement: The annual public reporting and recordkeeping burden for this collection of information is estimated to average 1,701 hours per response. Burden means the total time, effort, or financial resources expended by persons to generate, maintain, retain, or disclose, or provide information to, or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit, or otherwise disclose the information.

Respondents/Affected Entities: Large Municipal Waste Combustors.

Estimated Number of Respondents: 9.

Frequency of Response: Initially, semiannually, annually, and on occasion.

Estimated Total Annual Hour Burden: 38,417.

Estimated Total Annual Cost: $384,000, includes $384,000 annualized O&M costs and $0 capital costs.

Changes in the Estimates: There is a decrease of 650 hours in the total estimated burden currently identified in the OMB Inventory of Approved ICR Burdens. The decrease in burden from the most recently approved ICR is due to an adjustment. In the previous ICR, the number of MWCs (i.e., sources) was reported rather than the number of respondents. The costs associated with O&M also decreased slightly due to the decrease in the number of respondents.

Dated: June 29, 2006.
Richard T. Westlund,
Acting Director, Collection Strategies Division.

[FR Doc. E6-10869 Filed 7-10-06; 8:45 am]

BILLING CODE 6560-50-P